DEPARTMENT OF THE INTERIOR

Bureau of Indian Affairs

Determination of Trust Land Acquisition; Correction and Clarification

AGENCY: Bureau of Indian Affairs, Interior.

ACTION: Notice of correction and clarification.

SUMMARY: The Bureau of Indian Affairs published in the Federal Register of March 11, 2002, a notice on the Wyandotte Tribe of Oklahoma. This document corrects a discrepancy and clarifies language in the notice published in the Federal Register on March 11, 2002 (67 FR 10926).

FOR FURTHER INFORMATION CONTACT: George T. Skibine, Director, Office of Indian Gaming Management, Bureau of Indian Affairs, MS-2070 MIB, 1849 C Street NW., Washington, DC 20240; Telephone (202) 219-4066 (this is not a toll-free number); Telefax (202) 273-3153.

Correction

In the Federal Register of March 11, 2002, in FR Doc. 02-5760, on page 10926, in the second column under the heading “Background,” the notice incorrectly stated in the last paragraph that “* * * the initial $100,000 investment was $121,170 at the time of the land purchase.” The sentence is corrected to read “* * * the initial $100,000 investment was $212,170 at the time of the land purchase.”

Clarification

In the first column under the heading “Summary,” the words “land settlement claim” are removed from the text. In the second column under the heading “Determination,” the first sentence is modified to read as follows: The Secretary of the Interior has determined that Public Law 98-602 funds were used to purchase the Shriner's Property in Kansas City, Kansas. This clarification is necessary to underscore that the notice should not be interpreted as a determination by the Secretary of the Interior that the Wyandotte Tribe is entitled to conduct gaming activities on the Shriner's Property pursuant to the “settlement of a land claim” exception to the gaming prohibition on land acquired in trust after October 17, 1988, contained in Section 20 of the Indian Gaming Regulatory Act. Attorneys for the Wyandotte Tribe have advised attorneys for the Department of the Interior and the Department of Justice that the Wyandotte Tribe intends to request the Department of the Interior and the National Indian Gaming Commission to decide whether the Shriner's Property comes within the “settlement of a land claim” exception in 25 U.S.C. 2719(b)(1)(B)(i).

Dated: April 26, 2002.
Neal A. McCaleb,
Assistant Secretary—Indian Affairs.

[FR Doc. 02-11380 Filed 5-7-02; 8:45 am]

BILLING CODE 4310-4N-M